DEPARTMENT OF DEFENSE

Department of the Air Force

Request for Input on Space Transportation Policy

AGENCY: Department of the Air Force, DoD.

ACTION: Request for Input on Space Transportation Policy.

SUMMARY: The Air Force seeks input from the U.S. space sector regarding the future national direction of space launch bases and ranges including both Federal and non-Federal launch sites. Specifically, the Air Force is interested in comments concerning future development of launch bases and ranges, and policies that would have the potential of impacting the international competitiveness of the U.S. space launch industry.

DATES: Submit comments on or before September 17, 2001.

ADDRESSES: Office of the Assistant Secretary of the Air Force (Space), Space Policy, Plans, and Strategy (SAF/SXP), ATTN: Col Mushaw/Lt Col Kordell, 1640 Air Force Pentagon, Washington, D.C. 20330-1640.

FOR FURTHER INFORMATION CONTACT: Col. Stan Mushaw, (703) 695-2318, or Lt. Col. Blaise Kordell, (703) 614-5368.

SUPPLEMENTAL INFORMATION: In light of recent space transportation reviews (i.e., the report of the Interagency Working Group on “The Future Management and Use of the U.S. Space Launch Bases and Ranges” and the Secretary of the Air Force's Spacelift Task Force) and other efforts underway in the Department of Defense, the Air Force is interested in gathering state and industry input regarding space transportation issues needing national policy guidance as well as Air Force-specific policies, if any, that need to be updated or modified. Specifically, the Air Force wishes to examine launch base and range management issues, particularly policy, legal, and economic issues hindering and/or facilitating future access to space.

The Air Force seeks input from the U.S. space sector (e.g., companies with an interest in U.S. commercial space activities, spaceports, launch vehicle and satellite manufacturers, launch and satellite services providers, base and range operations contractors, launch site operators, operators of commercial payload processing facilitates, etc.), academia, and other interested members of the public. The Air Force is also seeking the views of state and local governments, particularly as they relate to the operations of non-Federal launch sites, commonly referred to as spaceports.

Submissions should address your views regarding the future national direction of space launch bases and ranges including both Federal and non-Federal launch sites. Specifically, the Air Force is interested in comments concerning future development of launch bases and ranges and policies that would have the potential of impacting the international competitiveness of the U.S. space launch industry. Responses should describe specific impediments and potential actions that could facilitate future access to space. The Air Force is not requesting additional comments at this time on other initiatives of the U.S. Government for which the government has previously solicited comments including the Notice of Proposed Rulemaking on Commercial Space Transportation Licensing Regulations, Licensing and Safety Requirements for Launch, October 25, 2000 or comments regarding on-going range modernization efforts.

Janet A. Long,
Air Force Federal Register Liaison Officer.

[FR Doc. 01-20638 Filed 8-15-01; 8:45 am]

BILLING CODE 5001-05-U